DEPARTMENT OF LABOR

Office of Workers' Compensation Programs

Proposed Revision of Information Collection; FECA Medical Report Forms, Claim for Compensation, OMB Control No. 1240-0046

AGENCY: Office of Workers' Compensation Programs, Division of Federal Employees' Longshore and Harbor Workers' Compensation, (OWCP/DFELHWC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs, Division of Federal Employees' Longshore and Harbor Workers' Compensation, (OWCP/DFELHWC) is soliciting comments on the information collection for FECA Medical Report Forms, Claim for Compensation, Authorization for Examination And/Or Treatment, CA-16.

DATES: All comments must be received on or before August 19, 2024.

ADDRESSES: You may submit comment as follows. Please note that late, untimely filed comments will not be considered.

Electronic Submissions: Submit electronic comments in the following way:

• Federal eRulemaking Portal: https://www.regulations.gov. Follow the instructions for submitting comments for WCPO-2024-0014. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL—OWCP/DFELHWC, Office of Workers' Compensation Programs, Division of Federal Employees' Longshore and Harbor Workers' Compensation, U.S. Department of Labor, 200 Constitution Ave. NW, Room S-3323, Washington, DC 20210.

• OWCP/DFELHWC will post your comment as well as any attachments, except for information submitted and marked as confidential, in the docket at https://www.regulations.gov.

FOR FURTHER INFORMATION CONTACT: Anjanette Suggs, Office of Workers' Compensation Programs, Division of Federal Employees' Longshore, and Harbor Workers' Compensation, OWCP/DFELHWC, at suggs.anjanette@dol.gov@dol.gov (email); (202) 354-9660.

SUPPLEMENTARY INFORMATION:

I. Background

The Office of Worker's Compensation Programs (OWCP) administers the Federal Employees' Compensation Act (FECA), which provides for continuation of pay or compensation for work related injuries or disease from federal employment. 5 U.S.C. 8149, Congress gives the Secretary of Labor authority to prescribe the rules and regulations necessary for the administration and enforcement of the FECA.

The relevant statutory provision allowing for an individual to make a claim for compensation benefits is found at 5 U.S.C. 8102, Compensation for disability or death of employee, and reads as follows:

(a) The United States shall pay compensation as specified by this subchapter for the disability or death of an employee resulting from personal injury sustained while in the performance of his duty, unless the injury or death is—

(1) caused by willful misconduct of the employee;

(2) caused by the employee's intention to bring about the injury or death of himself or of another; or

(3) proximately caused by the intoxication of the injured employee.

(b) Disability or death from a war-risk hazard or during or as a result of capture, detention, or other restraint by a hostile force or individual, suffered by an employee who is employed outside the continental United States or in Alaska or in the areas and installations in the Republic of Panama made available to the United States pursuant to the Panama Canal Treaty of 1977 and related agreements (as described in section 3(a) of the Panama Canal Act of 1979), is deemed to have resulted from personal injury sustained while in the performance of his duty, whether or not the employee was engaged in the course of employment when the disability or disability resulting in death occurred or when he was taken by the hostile force or individual. This subsection does not apply to an individual—

(1) whose residence is at or in the vicinity of the place of his employment and who was not living there solely because of the exigencies of his employment, unless he was injured or taken while engaged in the course of his employment; or

(2) who is a prisoner of war or a protected individual under the Geneva Conventions of 1949 and is detained or utilized by the United States.

The relevant statutory provision 5 U.S.C. 8103, Medical services and initial medical and other benefits, which reads as follows:

(a) The United States shall furnish to an employee who is injured while in the performance of duty, the services, appliances, and supplies prescribed or recommended by a qualified physician, which the Secretary of Labor considers likely to cure, give relief, reduce the degree or the period of disability, or aid in lessening the amount of the monthly compensation. These services, appliances, and supplies shall be furnished—

(1) whether or not disability has arisen;

(2) notwithstanding that the employee has accepted or is entitled to receive benefits under subchapter III of chapter 83 of this title or another retirement system for employees of the Government; and

(3) by or on the order of United States medical officers and hospitals, or, at the employee's option, by or on the order of physicians and hospitals designated or approved by the Secretary. The employee may initially select a physician to provide medical services, appliances, and supplies, in accordance with such regulations and instructions as the Secretary considers necessary, and may be furnished necessary and reasonable transportation and expenses incident to the securing of such services, appliances, and supplies. These expenses, when authorized or approved by the Secretary, shall be paid from the Employees' Compensation Fund.

(b) The Secretary, under such limitations or conditions as he considers necessary, may authorize the employing agencies to provide for the initial furnishing of medical and other benefits under this section. The Secretary may certify vouchers for these expenses out of the Employees' Compensation Fund when the immediate superior of the employee certifies that the expense was incurred in respect to an injury which was accepted by the employing agency as probably compensable under this subchapter. The Secretary shall prescribe the form and content of the certificate.

References: 5 U.S.C. 8102, 5 U.S. C. 8103, and 5 U.S.C. 8149. 20 CFR 10.102, 20 CFR 10.211, 20 CFR 10.300, 20 CFR 10.314, 20 CFR. 314, and 20 CFR. 10.506.

See: https://www.dol.gov/owcp/dfec/regs/statutes/feca.htm#).

See: eCFR: 20 CFR part 10—Claims for Compensation Under the Federal Employees' Compensation Act, as Amended

II. Desired Focus of Comments

OWCP/DFELHWC is soliciting comments concerning the proposed information collection related to the FECA Medical Report Forms, Claim for Compensation, Authorization for Examination And/Or Treatment, CA-16. OWCP/DFELHWC is particularly interested in comments that:

• Evaluate whether the collection of information is necessary for the proper performance of the functions of the Agency, including whether the information has practical utility;

• Evaluate the accuracy of OWCP/DFELHWC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DFELHWC located at 200 Constitution Ave. NW, Room S-3323, Washington, DC 20210. Questions about the information collection requirements may be directed to the person listed in the FOR FURTHER INFORMATION section of this notice.

III. Current Actions

This information collection request concerns FECA Medical Report Forms, Authorization for Examination And/Or Treatment, CA-16. OWCP/DFELHWC has updated the data with respect to the number of respondents, responses, burden hours, and burden costs supporting this information collection request from the previous information collection request.

Type of Review: Revision of a currently approved collection.

Agency: Office of Workers' Compensation Programs, Division of Federal Employees' Longshore, and Harbor Workers' Compensation, OWCP/DFELHWC.

OMB Number: 1240-0046.

Affected Public: Private Sector—Business or other For-profits.

Number of Respondents: 248,981.

Frequency: On Occasion.

Number of Responses: 248,981.

Annual Burden Hours: 22,824 hours.

Annual Respondent or Recordkeeper Cost: $186,736.00.

OWCP/DFELHWC 1240-0046: OWCP/DFELHWC FECA Medical Report Forms, Authorization for Examination and/or Treatment.

Comments submitted in response to this notice will be summarized in the request for Office of Management and Budget approval of the proposed information collection request; they will become a matter of public record and will be available at https://www.reginfo.gov.

Anjanette Suggs,
Certifying Officer.

[FR Doc. 2024-13438 Filed 6-18-24; 8:45 am]

BILLING CODE 4510-CH-P